ENVIRONMENTAL PROTECTION AGENCY

[EPA-HQ-OA-2010-0757; FRL-9965-65-OA]

Proposed Information Collection Request; Comment Request; Confidential Financial Disclosure Form for Special Government Employees Serving on Federal Advisory Committees at the U.S. Environmental Protection Agency (Renewal); EPA ICR No. 2260.05, OMB Control No. 2090-0029

AGENCY: Environmental Protection Agency (EPA).

ACTION: Notice.

SUMMARY: The Environmental Protection Agency is planning to submit an information collection request (ICR), “Confidential Financial Disclosure Form for Special Government Employees Serving on Federal Advisory Committees at the U.S. Environmental Protection Agency (Renewal)” (EPA ICR No. 2260.05, OMB Control No. 2090-0029) to the Office of Management and Budget (OMB) for review and approval in accordance with the Paperwork Reduction Act. Before doing so, EPA is soliciting public comments on specific aspects of the proposed information collection as described below. This is a proposed extension of the ICR, which is currently approved through February 28, 2018. An Agency may not conduct or sponsor and a person is not required to respond to a collection of information unless it displays a currently valid OMB control number.

DATES: Comments must be submitted on or before October 20, 2017.

ADDRESSES: Submit your comments, referencing Docket ID No. EPA-HQ-OA-2010-0757, online using www.regulations.gov (our preferred method), by email to oei.docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Megan Moreau, Office of Resources, Operations and Management, Federal Advisory Committee Management Division, Mail Code 1601M, Environmental Protection Agency, 1200 Pennsylvania Ave. NW., Washington, DC 20460; telephone number: 202-564-5320; fax number: 202-564-8129; email address: moreau.megan@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The purpose of this information collection request is to assist the EPA in selecting federal advisory committee members who will be appointed as Special Government Employees (SGEs), mostly to the EPA's scientific and technical committees. To select SGE members as efficiently and cost effectively as possible, the Agency needs to evaluate potential conflicts of interest before a candidate is hired as an SGE and appointed as a member to a committee.

Agency officials developed the “Confidential Financial Disclosure Form for Special Government Employees Serving on Federal Advisory Committees at the U.S. Environmental Protection Agency,” also referred to as Form 3110-48, for greater inclusion of information to discover any potential conflicts of interest as recommended by the Government Accountability Office.

Form Numbers: EPA Form 3110-48.

Respondents/affected entities: Entities potentially affected by this action are approximately 250 candidates for membership as SGEs on EPA federal advisory committees. SGEs are required to file a confidential financial disclosure report (Form 3110-48) when first appointed to serve on EPA advisory committees, and then annually thereafter. Committee members may also be required to update the confidential form before each meeting while they serve as SGEs.

Respondent's obligation to respond: Required in order to serve as a SGE on an EPA federal advisory committee (5 CFR 2634.903).

Estimated number of respondents: 250 (total).

Frequency of response: When first appointed to serve on an EPA advisory committee and annually thereafter. Committee members may also be required to update the confidential form before each meeting while they serve as SGEs.

Total estimated burden: 250 hours per year (1 hour per respondent). Burden is defined at 5 CFR 1320.03(b).

Total estimated cost: $22,000 (per year), includes $0 annualized capital or operation & maintenance costs.

Changes in Estimates: We anticipate an increase in the total estimated respondent burden compared with the ICR currently approved by OMB. The estimated number of respondents needs to be revised to take into account several committees and subcommittees with SGEs that were established since the ICR was last renewed, as well as SGEs who serve as consultants to the committees on an ad-hoc basis.

Dated: July 14, 2017.
Donna J. Vizian,
Acting Assistant Administrator, Office of Administration and Resources Management.

[FR Doc. 2017-17621 Filed 8-18-17; 8:45 am]

BILLING CODE 6560-50-P